DEPARTMENT OF STATE

[Delegation of Authority No. 558]

Delegation of Authorities—Secure Embassy Construction and Counterterrorism Act

1. By virtue of the authority vested in the Secretary of State by the laws of the United States, including by Section 1 of the State Department Basic Authorities Act, as amended (22 U.S.C. 2651a(a)(4)), to the extent authorized by law and subject to the conditions in paragraph 3 below, I hereby delegate to the Under Secretary of State for Management the authority to issue waivers for chanceries and consulates under sections 606(a)(2)(B) and 606(a)(3)(B) of the Secure Embassy Construction and Counterterrorism Act (SECCA Act) of 1999, Public Law 106-113, as amended by section 9301 of the SECCA Act of 2022, Public Law 117-263.

2. I further delegate to the Under Secretary of State for Management the authority to notify the appropriate congressional committees of any such waiver and to submit to appropriate congressional committees reports under the same sections of the SECCA Act of 1999. There will be a notification to Congress at least two days prior to any waiver's implementation.

3. This delegation of authority shall not apply to posts designated as High Threat/High Risk posts consistent with section 104 of the Omnibus Diplomatic Security and Antiterrorism Act of 1986 (22 U.S.C. 4803).

4. The functions delegated herein may be exercised by the Secretary, the Deputy Secretary, and the Deputy Secretary for Management and Resources.

5. This delegation supersedes Delegation of Authority No. 539, dated February 27, 2023.

6. This delegation of authority will be published in the Federal Register.

Dated: May 20, 2024.
Antony J. Blinken,
Secretary of State.

[FR Doc. 2024-13276 Filed 6-14-24; 8:45 am]

BILLING CODE 4710-10-P